DEPARTMENT OF TRANSPORTATION

Federal Aviation Administration

Public Notice for Intent To Release Airport Property

AGENCY: Federal Aviation Administration (FAA), DOT.

ACTION: Notice of intent to rule on request to release airport property for non-aeronautical use; Deadhorse Airport (SCC), Deadhorse, Alaska.

SUMMARY: The FAA proposes to rule and invites public comment on the release of land at the Deadhorse Airport, Deadhorse, Alaska.

DATES: Comments must be received on or before March 29, 2019.

ADDRESSES: Documents are available for review by appointment at the FAA Anchorage Airports Regional Office, Molly Lamrouex, Compliance Manager, 222 W 7th Avenue, Anchorage, AK. Telephone: (907) 271-5439/Fax: (907) 271-2851 and the Alaska Dept. of Transportation and Public Facilities, 2301 Peger Rd., Fairbanks, AK 99709. Telephone: (907) 451-2216.

Written comments on the Sponsor's request must be delivered or mailed to: Molly Lamrouex, Compliance Manager, Federal Aviation Administration, Airports Anchorage Regional Office, 222 W 7th Avenue, Anchorage AK 99513, Telephone Number: (907) 271-5439/FAX Number: (907) 271-2851.

FOR FURTHER INFORMATION CONTACT: Molly Lamrouex, Compliance Manager, Federal Aviation Administration, Alaskan Region Airports District Office, 222 W 7th Avenue, Anchorage, AK 99513. Telephone Number: (907) 271-5439/FAX Number: (907) 271-2851.

SUPPLEMENTARY INFORMATION: The FAA invites public comment on the request to release the aeronautical use only grant provision for a portion of lease Lot 1A, Block 700 at the Deadhorse Airport (SCC) under the provisions of 49 U.S.C. 47107(h)(2). The Alaska Department of Transportation and Public Facilities has requested from the FAA that a portion of airport property currently leased to Deadhorse Aviation Center be released for an interim non-aeronautical use. The FAA has determined that the release of the property will not impact future aviation needs at the airport. The FAA may approve the request, in whole or in part, no sooner than 30 days after the publication of this notice.

The disposition of proceeds from the non-aeronautical lease of the airport property will be in accordance with FAA's Policy and Procedures Concerning the Use of Airport Revenue, published in the Federal Register on February 16, 1999 (64 FR 7696).

Issued in Anchorage, Alaska, on February 19, 2019.
Kristi Warden,
Acting Director, Alaskan Airports Regional Office, FAA, Alaskan Region.

[FR Doc. 2019-03334 Filed 2-26-19; 8:45 am]

BILLING CODE 4910-13-P